NUCLEAR WASTE TECHNICAL REVIEW BOARD

Notice of a Meeting; Yucca Mountain, NV

Workshop: September 25-26, 2006—Las Vegas, Nevada; The U.S. Nuclear Waste Technical Review board will host a workshop on the potential for localized corrosion of Alloy-22, the material that has been proposed for waste packages in which spent nuclear fuel and high-level radioactive waste will be disposed of inside the proposed Yucca Mountain repository.

Pursuant to its authority under section 5051 of Public Law 100-203, Nuclear Waste Policy Amendments Act of 1987, the U.S. Nuclear Waste Technical Review Board will host a workshop on localized corrosion in Las Vegas, Nevada. The focus of the workshop will be the potential for localized corrosion of Alloy-22 under aqueous conditions that might exist in a proposed Yucca Mountain repository. Alloy-22 is a material that has been proposed for waste packages in which spent nuclear fuel and high-level radioactive waste will be disposed of inside the proposed repository. Among the workshop topics will be results of recent and ongoing testing related to evolution of aqueous environments in the repository and the potential initiation, propagation, cessation, and consequences of localized corrosion of Alloy-22. The Board was charged in the Nuclear Waste Amendments Act of 1987 with conducting an independent review of the technical and scientific validity of U.S. Department of Energy (DOE) activities related to disposing, packaging, and transporting of spent nuclear fuel and high-level radioactive waste.

The workshop agenda will be available on the Board's Web site http://www.nwtrb.gov) approximately one week before the date of the workshop. The agenda also may be obtained by telephone request at that time. The workshop will be open to the public, and opportunities for public comment will be provided. Transcripts of the workshop proceedings and overheads from workshop presentations will be available on the Board's Web site approximately three weeks after the workshop date.

The workshop will be held at the Las Vegas Marriott Suites; 325 Convention Center Drive; Las Vegas, Nevada 89109; telephone 702-650-2000; fax 702-650-9466.

The workshop will begin Monday afternoon with introductions of the participants; presentations of the ground rules; and a discussion of possible waste package environments, including data obtained from current and ongoing tests, interpretation of the data, and modeling used to project possible waste package environments.

On Tuesday morning, the workshop will reconvene, and discussions will focus on testing related to the potential for localized corrosion of the Alloy-22 waste packages. The discussions will continue until late afternoon, when the workshop will adjourn.

Time will be set aside during the workshop for public comments. Those wanting to speak are encouraged to sign the ``Public Comment Register'' at the check-in-table. A time limit may have to be set on individual remarks, but written comments of any length may be submitted for the record.

Transcripts of the workshop will be available on the Board's Web site, by e-mail, on computer disk, and on a library-loan basis in paper format from Davonya Barnes of the Board's staff no later than October 19, 2006.

A block of rooms has been reserved for workshop attendees and participants at the Las Vegas Marriott Suites. When making a reservation, please state that you will be attending the Nuclear Waste Technical Review Board workshop. Reservations should be made by September 1, 2006, to ensure receiving the workshop rate.

For more information, contact Karyn Severson, NWTRB External Affairs; 2300 Clarendon Boulevard, Suite 1300; Arlington, VA 22201-3367; 703-235-4473; fax 703-235-4495.

Dated: August 16, 2006.
William D. Barnard,
Executive Director, Nuclear Waste Technical Review Board.

[FR Doc. 06-7049 Filed 8-18-06; 8:45am]

BILLING CODE 6820-AM-M